DEPARTMENT OF COMMERCE

National Oceanic and Atmospheric Administration

50 CFR Part 679

[Docket No. 021122286-3036-02; I.D. 082003D]

Fisheries of the Exclusive Economic Zone Off Alaska; Pacific Ocean Perch in the Eastern Aleutian District of the Bering Sea and Aleutian Islands

AGENCY: National Marine Fisheries Service (NMFS), National Oceanic and Atmospheric Administration (NOAA), Commerce.

ACTION: Closure.

SUMMARY: NMFS is prohibiting retention of Pacific ocean perch in the Eastern Aleutian District of the Bering Sea and Aleutian Islands (BSAI). NMFS is requiring that catch of Pacific ocean perch in this area be treated in the same manner as prohibited species and discarded at sea with a minimum of injury. This action is necessary because the allocation of the Pacific ocean perch 2003 total allowable catch (TAC) in this area has been achieved.

DATES: Effective 1200 hrs, Alaska local time (A.l.t.), August 23, 2003, until 2400 hrs, A.l.t., December 31, 2003.

FOR FURTHER INFORMATION CONTACT: Josh Keaton, 907-586-7228.

SUPPLEMENTARY INFORMATION: NMFS manages the groundfish fishery in the BSAI exclusive economic zone according to the Fishery Management Plan for the Groundfish Fishery of the Bering Sea and Aleutian Islands (FMP) prepared by the North Pacific Fishery Management Council under authority of the Magnuson-Stevens Fishery Conservation and Management Act. Regulations governing fishing by U.S. vessels in accordance with the FMP appear at subpart H of 50 CFR part 600 and CFR part 679. The allocation of the Pacific ocean perch TAC in the Eastern Aleutian District of the BSAI was established as 3,238 metric tons (mt) by the final 2003 harvest specifications for groundfish in the BSAI and the reserve apportionment (68 FR 9907, March 3, 2003). The allocation of Pacific ocean perch TAC in the Eastern Aleutian District of the BSAI to Community Development Quota (CDQ) participants was established as 263 mt by the final 2003 harvest specifications for groundfish in the BSAI.

In accordance with § 679.20(d)(2), the Administrator, Alaska Region, NMFS, has determined that the allocation of the Pacific ocean perch TAC in the Eastern Aleutian District of the BSAI has been reached. Therefore, NMFS is requiring that further catches of Pacific ocean perch TAC in the Eastern Aleutian District of the BSAI be treated as prohibited species in accordance with § 679.21(b).

As of August 19, 2003, 125 mt of the Pacific ocean perch CDQ reserve in the Eastern Aleutian District of the BSAI remains unharvested. Therefore, CDQ participants are not yet required to treat catch of Pacific ocean perch in the Eastern Aleutian District of the BSAI as a prohibited species.

Classification

This action responds to the best available information recently obtained from the fishery. The Assistant Administrator for Fisheries, NOAA (AA), finds good cause to waive the requirement to provide prior notice and opportunity for public comment pursuant to the authority set forth at 5 U.S.C. 553(b)(B) as such requirement is contrary to the public interest. This requirement is contrary to the public interest as it would delay the prohibition of retention, lead to exceeding the TAC of Pacific ocean perch in the Eastern Aleutian District of the BSAI, and therefore reduce the public's ability to use and enjoy the fishery resource.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: August 21, 2003.
Bruce C. Morehead,
Acting Director, Office of Sustainable Fisheries, National Marine Fisheries Service.

[FR Doc. 03-21933 Filed 8-22-03; 2:45 pm]

BILLING CODE 3510-22-S